DEPARTMENT OF HOUSING AND URBAN DEVELOPMENT

[Docket No. FR-4572-D-02]

Order of Succession

AGENCY: Office of the Assistant Secretary for Fair Housing and Equal Opportunity (FHEO), HUD.

ACTION: Notice of Order of Succession for the Assistant Secretary for Fair Housing and Equal Opportunity.

SUMMARY: In this notice, the Assistant Secretary for Fair Housing and Equal Opportunity designates the Order of Successions for the position of Assistant Secretary for FHEO, and revokes the prior Order of Succession for this position.

EFFECTIVE DATE: March 17, 2000.

FOR FURTHER INFORMATION CONTACT: Deborah R. Harrison, Administrative Officer, Office of Fair Housing and Equal Opportunity, Budget and Administrative Support Division, Department of Housing and Urban Development, 451 7th Street, SW, Room 5124, Washington, DC 20410-2000; telephone (202) 708-2701. [This is not a toll-free number.] A telecommunications device for hearing impaired persons (TDD) is available at 1-800-543-8294.

SUPPLEMENTARY INFORMATION: In this document, the Assistant Secretary for Fair Housing and Equal Opportunity is issuing the Order of Succession of officials authorized to serve as Acting Assistant Secretary for FHEO when, by reason of absence, disability, or vacancy in office, the Assistant Secretary for FHEO is not available to exercise the powers or perform the duties of the office. This revised Order of Succession is being issued due to a reorganization of the office of the Assistant Secretary for FHEO.

Accordingly, the Assistant Secretary for FHEO designates the following officials, in the order specified to act for and assume the powers of the Assistant Secretary for FHEO:

Section A. Order of Succession

During any period when, by reason of absence, disability, or vacancy in office, the Assistant Secretary for Fair Housing and Equal Opportunity is not available to exercise the powers or perform the duties of the Office of the Assistant Secretary for FHEO, the following are hereby designated to serve as Acting Assistant Secretary for FHEO:

(1) General Deputy Assistant Secretary;

(2) Deputy Assistant Secretary for Enforcement and Program;

(3) Deputy Assistant Secretary for Operations and Management;

(4) Director, Policy and Program Evaluation Staff;

(5) Director, Office of Enforcement;

(6) Director, Office of Programs;

(7) Director, Field Oversight Staff; and

(8) Director, Office of Management and Planning

Section B. Authority Revoked

The Order of Succession of the Assistant Secretary for FHEO, published in the Federal Register on December 13, 1996 at 61 FR 65591, is hereby revoked.

Authority: Sec. 7(d) Department of Housing and Urban Development Act, 42 U.S.C. 3535(d).

Dated: March 17, 2000.
Eva M. Plaza,
Assistant Secretary for Fair Housing and Equal Opportunity.

[FR Doc. 00-7783 Filed 3-29-00; 8:45 am]

BILLING CODE 4210-28-M